DEPARTMENT OF COMMERCE

National Oceanic and Atmospheric Administration

[RTID: 0648-XB430]

Nominations to the Marine Mammal Scientific Review Groups

AGENCY: National Marine Fisheries Service (NMFS), National Oceanic and Atmospheric Administration (NOAA), Commerce.

ACTION: Notice; request for nominations.

SUMMARY: As required by the Marine Mammal Protection Act (MMPA), the Secretary of Commerce established three independent regional scientific review groups (SRGs) to provide advice on a range of marine mammal science and management issues. NMFS conducted a membership review of the Alaska, Atlantic, and Pacific SRGs, and is soliciting nominations for new members to fill vacancies and gaps in expertise (see below).

DATES: Nominations must be received by October 24, 2022.

ADDRESSES: Nominations can be emailed to Zachary.Schakner@noaa.gov, Assessment Branch, Office of Science and Technology, National Marine Fisheries Service, Attn: SRGs.

FOR FURTHER INFORMATION CONTACT: Dr. Zachary Schakner, Office of Science and Technology, 301-427-8106, Zachary.Schakner@noaa.gov. Information about the SRGs, including the SRG Terms of Reference, is available at https://www.fisheries.noaa.gov/national/marine-mammal-protection/scientific-review-groups.

SUPPLEMENTARY INFORMATION: Section 117(d) of the MMPA (16 U.S.C. 1386(d)) directs the Secretary of Commerce to establish three independent regional SRGs to advise the Secretary (authority delegated to NMFS). The Alaska SRG advises on marine mammals that occur in waters off Alaska that are under the jurisdiction of the United States. The Pacific SRG advises on marine mammals that occur in waters off the U.S. West Coast, Hawaiian Islands, and the U.S. Territories in the Central and Western Pacific that are under the jurisdiction of the United States. The Atlantic SRG advises on marine mammals that occur in waters off the Atlantic coast, Gulf of Mexico, and U.S. Territories in the Caribbean.

SRG members are highly qualified individuals with expertise in marine mammal biology and ecology, population dynamics and modeling, commercial fishing technology and practices, and stocks taken under section 101(b) of the MMPA. The SRGs provide expert reviews of draft marine mammal stock assessment reports and other information related to the matters identified in section 117(d)(1) of the MMPA, including:

A. Population estimates and the population status and trends of marine mammal stocks;

B. Uncertainties and research needed regarding stock separation, abundance, or trends, and factors affecting the distribution, size, or productivity of the stock;

C. Uncertainties and research needed regarding the species, number, ages, gender, and reproductive status of marine mammals;

D. Research needed to identify modifications in fishing gear and practices likely to reduce the incidental mortality and serious injury of marine mammals in commercial fishing operations;

E. The actual, expected, or potential impacts of habitat destruction, including marine pollution and natural environmental change, on specific marine mammal species or stocks, and for strategic stocks, appropriate conservation or management measures to alleviate any such impacts; and

F. Any other issue which the Secretary or the groups consider appropriate.

SRG members collectively serve as independent advisors to NMFS and the U.S. Fish and Wildlife Service and provide their expert review and recommendations through participation in the SRG. Members attend annual meetings and undertake activities as independent persons providing expertise in their subject areas. Members are not appointed as representatives of professional organizations or particular stakeholder groups, including government entities, and are not permitted to represent or advocate for those organizations, groups, or entities during SRG meetings, discussions, and deliberations.

SRG membership is voluntary, and, except for reimbursable travel and related expenses, service is without pay. The term of service for SRG members is 3 years, and members may serve up to three consecutive terms if reappointed.

NMFS annually reviews the expertise available on the SRG and identifies gaps in the expertise that is needed to provide advice pursuant to section 117(d) of the MMPA. In conducting the reviews, NMFS attempts to achieve, to the maximum extent practicable, a balanced representation of viewpoints among the individuals on each SRG.

Expertise Solicited

For the Alaska SRG, NMFS seeks individuals with expertise in one or more of the following areas (not in order of priority): Abundance estimation, especially distance sampling and mark-recapture methods and survey design; Passive acoustic data collection and analysis; Climate and oceanographic changes impacting marine mammals; Quantitative ecology, population dynamics, modeling, and statistics, especially as related to abundance, bycatch, and distribution; Anthropogenic impacts, particularly fisheries interactions, vessel strikes, and the effects of anthropogenic sound.

For the Pacific SRG (including waters off the Pacific coast, Hawaiian Islands and the U.S. Territories in the Central and Western Pacific), NMFS seeks individuals with expertise in one or more of the following areas (not in order of priority): Population structure based on genetic data, incorporation of new methodological or technological advancements for data collection/analysis (e.g. -omics, eDNA, microbiome); West Coast and Pacific Islands marine mammal expertise, including assessment, life history, ecology, or human-marine mammal interactions; Applied conservation and management, including evaluating bycatch or fisheries impacts on marine mammals; Expertise in identifying and delineating demographically independent populations based on multiple lines of evidence; West Coast and Pacific Islands fishing gear/techniques, including fishery/marine mammal interactions for State, Tribal, or regional/local fisheries; Oceanography or marine ecology, particularly decadal and long-term understanding and impacts of climate change; spatial movement ecology, telemetry, habitat modeling; Sea otters; Pinnipeds.

For the Atlantic SRG (including waters off the Atlantic coast, Gulf of Mexico, and U.S. Territories in the Caribbean), NMFS seeks individuals with expertise in one or more of the following priority areas (not in order of priority): Expertise in statistical analyses relevant to marine mammal population assessment including line-transect methods, mark-recapture methods, bycatch estimation, survey design, and population dynamics modeling; Large whale (especially North Atlantic right whales) population dynamics, biology and ecology; Marine mammal acoustics, in terms of individual impacts (masking, TTS) and changes to habitat function (loss of communication space, displacement); Population dynamics of estuarine and nearshore bottlenose dolphins in the Gulf of Mexico and/or Atlantic Ocean; Population dynamics of warm temperate to tropical pelagic marine mammals in the Gulf of Mexico, Caribbean Sea and Atlantic Ocean; Ecology of Caribbean marine mammals in U.S. waters of Puerto Rico and U.S. Virgin Islands; Marine mammal—fishery interactions, including fishing gear, practices, and bycatch reduction; Impacts of oceanographic & ecosystem changes such as climate change, energy (renewable/non-renewable), or marine aquaculture on marine mammal populations; Pinniped reproductive behavior, diet, physiology, fisheries interactions; Manatee population dynamics and ecology.

Submitting a Nomination

Nominations for new members should be sent to Dr. Zachary Schakner in the NMFS Office of Science & Technology (see ADDRESSES) and must be received by October 24, 2022. Nominations should be accompanied by the individual's curriculum vitae and detailed information regarding how the recommended person meets the minimum selection criteria for SRG members (see below). Nominations should also include the nominee's name, address, telephone number, and email address. Self-nominations are acceptable.

Selection Criteria

Although the MMPA does not explicitly prohibit Federal employees from serving as SRG members, NMFS interprets MMPA section 117(d)'s reference to the SRGs as “independent” bodies that are exempt from Federal Advisory Committee Act requirements to mean that SRGs are intended to augment existing Federal expertise and are not composed of Federal employees or contractors.

When reviewing nominations, NMFS, in consultation with the U.S. Fish and Wildlife Service, will consider the following six criteria:

(1) Ability to make time available for the purposes of the SRG;

(2) Knowledge of the species (or closely related species) of marine mammals in the SRG's region;

(3) Scientific or technical achievement in a relevant discipline, particularly the areas of expertise identified above, and the ability to serve as an expert peer reviewer for the topic;

(4) Demonstrated experience working effectively on teams;

(5) Expertise relevant to current and expected needs of the SRG, in particular, expertise required to provide adequate review and knowledgeable feedback on current or developing stock assessment issues, techniques, etc. In practice, this means that each member should have expertise in more than one topic as the species and scientific issues discussed in SRG meetings are diverse; and

(6) No conflict of interest with respect to their duties as a member of the SRG.

Next Steps

Following review, nominees who are identified by NMFS as potential new members must be vetted and cleared in accordance with Department of Commerce policy. NMFS will contact these individuals and ask them to provide written confirmation that they are not registered Federal lobbyists or registered foreign agents, and to complete a confidential financial disclosure form, which will be reviewed by the Ethics Law and Programs Division within the U.S. Department of Commerce's Office of General Counsel. All nominees will be notified of a selection decision in advance of the 2023 SRG meetings.

Dated: September 16, 2022.
Evan Howell,
Director, Office of Science and Technology, National Marine Fisheries Service.

[FR Doc. 2022-20498 Filed 9-21-22; 8:45 am]

BILLING CODE 3510-22-P